DEPARTMENT OF COMMERCE

National Oceanic and Atmospheric Administration

[RTID 0648-XA749]

North Pacific Fishery Management Council; Public Meeting

AGENCY: National Marine Fisheries Service (NMFS), National Oceanic and Atmospheric Administration (NOAA), Commerce.

ACTION: Notice of a webconference.

SUMMARY: The North Pacific Fishery Management Council's (NPFMC) Legislative Committee will meet January 29, 2021.

DATES: The meeting will be held on Friday, January 29, 2021, from 1 p.m. to 5 p.m., Alaska time.

ADDRESSES: The meeting will be a webconference. Join online through the link at https://meetings.npfmc.org/Meeting/Details/1850.

Council address: North Pacific Fishery Management Council, 1007 W 3rd Ave., Anchorage, AK 99501-2252; telephone: (907) 271-2809. Instructions for attending the meeting are given under SUPPLEMENTARY INFORMATION, below.

FOR FURTHER INFORMATION CONTACT: David Witherell, Executive Director; phone: (907) 271-2809 and email: david.witherell@noaa.gov. For technical support please contact administrative Council staff, email: npfmc.admin@noaa.gov.

SUPPLEMENTARY INFORMATION:

Agenda

Friday, January 29, 2021

The Legislative Committee agenda will include a discussion of draft legislation H.R. 8632 “Ocean Climate Action: Solutions to the Climate Crisis” and evaluation of its potential impacts to the Council's ability to meet its conservation and management goals under the Magnuson-Stevens Fishery Conservation and Management Act (MSA) and other applicable law. The committee will review Congressman Huffman Discussion Draft for MSA Reauthorization and other MSA Issues. The Committee may address a Congressional request to review potential MSA revisions to address the need for federal conservation and management relative to recent Council action on Cook Inlet salmon management. The committee may also address other items of business as necessary. The agenda is subject to change, and the latest version will be posted at https://meetings.npfmc.org/Meeting/Details/1850 prior to the meeting, along with meeting materials.

Connection Information

You can attend the meeting online using a computer, tablet, or smart phone; or by phone only. Connection information will be posted online at: https://meetings.npfmc.org/Meeting/Details/1850.

Public Comment

Public comment letters will be accepted and should be submitted electronically to https://meetings.npfmc.org/Meeting/Details/1850.

Authority: 16 U.S.C. 1801 et seq.

Dated: January 6, 2021.
Rey Israel Marquez,
Acting Deputy Director, Office of Sustainable Fisheries, National Marine Fisheries Service.

[FR Doc. 2021-00274 Filed 1-8-21; 8:45 am]

BILLING CODE 3510-22-P